DEPARTMENT OF AGRICULTURE

Food Safety and Inspection Service

9 CFR Part 317

[Docket No. FSIS-2008-0017]

RIN 0583-AD45

Descriptive Designation for Needle- or Blade-Tenderized (Mechanically Tenderized) Beef Products; Correction

AGENCY: Food Safety and Inspection Service, USDA.

ACTION: Proposed rule; correction.

SUMMARY: This document corrects the preamble to a proposed rule published in the Federal Register on June 10, 2013, regarding new labeling requirements for raw or partially cooked needle- or blade-tenderized beef products, including beef products injected with a marinade or solution. This correction removes a clerical error that appeared in the Paperwork Reduction Act section of the preamble in the proposed rule.

FOR FURTHER INFORMATION CONTACT: Daniel L. Engeljohn, Ph.D., Assistant Administrator, Office of Policy and Program Development, Food Safety and Inspection Service, U.S. Department of Agriculture, 1400 Independence Avenue SW., Washington, DC 20250-3700; Telephone (202) 205-0495; Fax (202) 720-2025.

SUPPLEMENTARY INFORMATION:

Background

On June 10, 2013, FSIS issued a proposed rule entitled “Descriptive Designation for Needle- or Blade-Tenderized (Mechanically Tenderized) Beef Products.” FR Doc. No. 2013-13669; 78 FR 34589-34604. Within the abstract of the Paperwork Reduction Act section of the preamble to the proposed rule (FR 34603), FSIS inadvertently included the phrase “that do not fall under a regulatory standard of identity” when characterizing which products would be subject to the rule.

When read as a whole, it is clear that this phrase within the Paperwork Reduction Act section of the preamble was made in error. In no other section of the preamble or in the proposed text of the rule did FSIS make such a statement. Additionally, the remainder of that section of the preamble, as well as the Information Collection Request that FSIS submitted to the Office of Management and Budget accounted for raw or partially cooked needle- or blade-tenderized beef products regardless of whether they fall under a regulatory standard of identity. Moreover, the final rule that FSIS published on May 18, 2015 (80 FR 28153), did not exempt any raw or partially cooked mechanically tenderized products that fall under a regulatory standard of identity from its provisions. FSIS is therefore correcting the clerical error in the proposed rule's Paperwork Reduction Act section.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Additional Public Notification

Public awareness of all segments of rulemaking and policy development is important. Consequently, FSIS will announce it on-line through the FSIS Web page located at: http://www.fsis.usda.gov/federal-register.

FSIS also will make copies of this Federal Register publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password-protect their accounts.

Correction

In the proposed rule, entitled Descriptive Designation for Needle- or Blade-Tenderized (Mechanically Tenderized) Beef Products (FR Doc. No. 2013-13669), beginning on page 34589 in the issue of Monday, June 10, 2013, make the following correction in the Paperwork Reduction Act section.

On page 34603, in the second column, remove “, that do not fall under a regulatory standard of identity.” and add a period after “solution”.

Done in Washington, DC, on September 4, 2015.
Alfred V. Almanza,
Acting Administrator.

[FR Doc. 2015-22778 Filed 9-9-15; 8:45 am]

BILLING CODE 3410-DM-P